NATIONAL FOUNDATION ON THE ARTS AND THE HUMANITIES

Meetings of Humanities Panel

AGENCY: The National Endowment for the Humanities.

ACTION: Notice of meetings.

SUMMARY: Pursuant to the provisions of the Federal Advisory Committee Act (Pub. L. 92-463, as amended), notice is hereby given that the following meetings of Humanities Panels will be held at the Old Post Office, 1100 Pennsylvania Avenue, NW., Washington, DC 20506.

FOR FURTHER INFORMATION CONTACT: Michael P. McDonald, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c) (4), and (6) of section 552b of Title 5, United States Code.

1. DATE: July 11, 2011.

TIME: 8:30 a.m. to 5 p.m.

LOCATION: Room 315.

PROGRAM: This meeting will review applications for History and Politics in Awards for Faculty Program, submitted to the Division of Research Programs at the April 14, 2011 deadline.

2. DATE: July 12, 2011.

TIME: 8:30 a.m. to 5 p.m.

LOCATION: Room 315.

PROGRAM: This meeting will review applications for British Literature I in Fellowships Program, submitted to the Division of Research Programs at the May 3, 2011 deadline.

3. DATE: July 12, 2011.

TIME: 8:30 a.m. to 5 p.m.

LOCATION: Room 415.

PROGRAM: This meeting will review applications for British Literature II in Fellowships Program, submitted to the Division of Research Programs at the May 3, 2011 deadline.

4. DATE: July 12, 2011.

TIME: 9:00 a.m. to 5 p.m.

LOCATION: Room 421.

PROGRAM: This meeting will review applications for Art and Anthropology, submitted to the Office of Challenge Grants at the May 4, 2011 deadline.

5. DATE: July 18, 2011.

TIME: 8:30 a.m. to 5 p.m.

LOCATION: Room 315.

PROGRAM: This meeting will review applications for European and Comparative Literature in Fellowships Program, submitted to the Division of Research Programs at the May 3, 2011 deadline.

6. DATE: July 18, 2011.

TIME: 8:30 a.m. to 5 p.m.

LOCATION: Room 415.

PROGRAM: This meeting will review applications for Literary Theory and Film in Fellowships Program, submitted to the Division of Research Programs at the May 3, 2011 deadline.

7. DATE: July 19, 2011.

TIME: 8:30 a.m. to 5 p.m.

LOCATION: Room 315.

PROGRAM: This meeting will review applications for Social Science and Ethnic Studies in Awards for Faculty Program, submitted to the Division of Research Programs at the April 14, 2011 deadline.

8. DATE: July 19, 2011.

TIME: 8:30 a.m. to 5 p.m.

LOCATION: Room 415.

PROGRAM: This meeting will review applications for Literature, Philosophy, and the Arts in Awards for Faculty Program, submitted to the Division of Research Programs at the April 14, 2011 deadline.

9. DATE: July 19, 2011.

TIME: 9:00 a.m. to 5 p.m.

LOCATION: Room 421.

PROGRAM: This meeting will review applications for Colleges & Universities I, submitted to the Office of Challenge Grants at the May 4, 2011 deadline.

10. DATE: July 20, 2011.

TIME: 8:30 a.m. to 5 p.m.

LOCATION: Room 315.

PROGRAM: This meeting will review applications for Musicology in Fellowships Program, submitted to the Division of Research Programs at the May 3, 2011 deadline.

11. DATE: July 20, 2011.

TIME: 8:30 a.m. to 5 p.m.

LOCATION: Room 415.

PROGRAM: This meeting will review applications for Art History I in Fellowships Program, submitted to the Division of Research Programs at the May 3, 2011 deadline.

12. DATE: July 21, 2011.

TIME: 9:00 a.m. to 5 p.m.

LOCATION: Room 421.

PROGRAM: This meeting will review applications for Research, submitted to the Office of Challenge Grants at the May 4, 2011 deadline.

13. DATE: July 21, 2011.

TIME: 8:30 a.m. to 5 p.m.

LOCATION: Room 315.

PROGRAM: This meeting will review applications for Modern European History I in Fellowships Program, submitted to the Division of Research Programs at the May 3, 2011 deadline.

14. DATE: July 25, 2011.

TIME: 8:30 a.m. to 5 p.m.

LOCATION: Room 315.

PROGRAM: This meeting will review applications for East Asian Studies in Fellowships Program, submitted to the Division of Research Programs at the May 3, 2011 deadline.

15. DATE: July 25, 2011.

TIME: 8:30 a.m. to 5 p.m.

LOCATION: Room 415.

PROGRAM: This meeting will review applications for Anthropology in Fellowships Program, submitted to the Division of Research Programs at the May 3, 2011 deadline.

16. DATE: July 26, 2011.

TIME: 9 a.m. to 5 p.m.

LOCATION: Room 421.

PROGRAM: This meeting will review applications for Public Libraries and Public Programming, submitted to the Office of Challenge Grants at the May 4, 2011 deadline.

17. DATE: July 26, 2011.

TIME: 8:30 a.m. to 5 p.m.

LOCATION: Room 315.

PROGRAM: This meeting will review applications for Religious Studies I in Fellowships Program, submitted to the Division of Research Programs at the May 3, 2011 deadline.

18. DATE: July 26, 2011.

TIME: 8:30 a.m. to 5 p.m.

LOCATION: Room 415.

PROGRAM: This meeting will review applications for American History II in Fellowships Program, submitted to the Division of Research Programs at the May 3, 2011 deadline.

19. DATE: July 27, 2011.

TIME: 8:30 a.m. to 5 p.m.

LOCATION: Room 315.

PROGRAM: This meeting will review applications for Latin American Studies I in Fellowships Program, submitted to the Division of Research Programs at the May 3, 2011 deadline.

20. DATE: July 27, 2011.

TIME: 8:30 a.m. to 5 p.m.

LOCATION: Room 415.

PROGRAM: This meeting will review applications for Latin American Studies II in Fellowships Program, submitted to the Division of Research Programs at the May 3, 2011 deadline.

21. DATE: July 28, 2011.

TIME: 8:30 a.m. to 5 p.m.

LOCATION: Room 315.

PROGRAM: This meeting will review applications for Philosophy I in Fellowships Program, submitted to the Division of Research Programs at the May 3, 2011 deadline.

22. DATE: July 28, 2011.

TIME: 8:30 a.m. to 5 p.m.

LOCATION: Room 415.

PROGRAM: This meeting will review applications for Philosophy II in Fellowships Program, submitted to the Division of Research Programs at the May 3, 2011 deadline.

23. DATE: July 28, 2011.

TIME: 9 a.m. to 5 p.m.

LOCATION: Room 421.

PROGRAM: This meeting will review applications for History I, submitted to the Office of Challenge Grants at the May 4, 2011 deadline.

Michael P. McDonald,
Advisory Committee Management Officer.

[FR Doc. 2011-15386 Filed 6-20-11; 8:45 am]

BILLING CODE 7536-01-P